NUCLEAR REGULATORY COMMISSION

[NRC-2019-0099]

Biweekly Notice: Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from March 26, 2019 to April 8, 2019. The last biweekly notice was published on April 9, 2019.

DATES: Comments must be filed by May 23, 2019. A request for a hearing must be filed by June 24, 2019.

ADDRESSES: You may submit comments by any of the following methods (unless this document describes a different method for submitting comments on a specific subject):

• Federal Rulemaking website: Go to http://www.regulations.gov and search for Docket ID NRC-2019-0099. Address questions about NRC dockets IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulations, U.S. Nuclear Regulatory Commission, Washington, DC 20555-0001; telephone: 301-415-1927, email: Lynn.Ronewicz@nrc.gov.

SUPPLEMENTARY INFORMATION:

I. Obtaining Information and Submitting Comments

A. Obtaining Information

Please refer to Docket ID NRC-2019-0099, facility name, unit number(s), plant docket number, application date, and subject when contacting the NRC about the availability of information for this action. You may obtain publicly-available information related to this action by any of the following methods:

• Federal Rulemaking website: Go to http://www.regulations.gov and search for Docket ID NRC-2019-0099.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0099, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the NRC is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment application(s), see the application for amendment which is available for public inspection in ADAMS and at the NRC's PDR. For additional direction on accessing information related to this document, see the “Obtaining Information and Submitting Comments” section of this document.

Duke Energy Carolinas, LLC, Docket Nos. 50-369 and 50-370, McGuire Nuclear Station, Units 1 and 2, Mecklenburg County, North Carolina

Date of amendment request: February 5, 2019. A publicly-available version is in ADAMS under Accession No. ML19042A117.

Description of amendment request: The amendments would modify Technical Specification (TS) 3.5.2, ECCS [Emergency Core Cooling System]—Operating”; TS 3.6.6, “Containment Spray System”; TS 3.7.5, “Auxiliary Feedwater (AFW) System”; TS 3.7.6, “Component Cooling Water (CCW) System”; TS 3.7.7, “Nuclear Service Water System (NSWS)”; TS 3.7.9, “Control Room Area Ventilation System (CRAVS)”; TS 3.7.11, “Auxiliary Building Filtered Ventilation Exhaust System (ABFVES)”; TS 3.8.1, “AC [Alternate Current] Sources—Operating”; and TS 3.8.4, “DC [Direct Current] Sources—Operating,” to remove expired TS footnotes. Additionally, the amendments would fix an editorial error in Section 3.0, “SR [Surveillance Requirement] APPLICABILITY,” specifically, SR 3.0.5.

Basis for proposed no significant hazards consideration determination: As required by 10 CFR 50.91(a), the licensee has provided its analysis of the issue of no significant hazards consideration, which is presented below:

1. Does the proposed amendment involve a significant increase in the probability or consequences of an accident previously evaluated?

Response: No.

This LAR [license amendment request] proposes administrative non-technical changes only. These proposed changes do not adversely affect accident initiators or precursors nor alter the design assumptions, conditions, or configurations of the facility. The proposed changes do not alter or prevent the ability of structures, systems, and components (SSCs) to perform their intended function to mitigate the consequences of an initiating event within the assumed limits.

Given the above discussion, it is concluded the proposed amendment does not significantly increase the probability or consequences of an accident previously evaluated.

2. Does the proposed amendment create the possibility of a new or different kind of accident from any accident previously evaluated?

Response: No.

This LAR proposes administrative non-technical changes only. The proposed changes will not alter the design requirements of any Structure, System or Component (SSC) or its function during accident conditions. No new or different accidents result from the proposed changes. The changes do not involve a physical alteration of the plant or any changes in methods governing normal plant operation. The changes do not alter assumptions made in the safety analysis.

Given the above discussion, it is concluded the proposed amendment does not create the possibility of a new or different kind of accident from any accident previously evaluated.

3. Does the proposed amendment involve a significant reduction in the margin of safety?

Response: No.

This LAR proposes administrative non-technical changes only. The proposed changes do not alter the manner in which safety limits, limiting safety systems settings or limiting conditions for operation are determined. The safety analysis acceptance criteria are not affected by these changes. The proposed changes will not result in plant operation in a configuration outside the design basis. The proposed changes do not adversely affect systems that respond to safety shutdown the plant and to maintain the plant in a safe shutdown condition.

Given the above discussion, it is concluded the proposed amendment does not involve a significant reduction in the safety margin.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A Charlotte, NC 28202-1802.

NRC Branch Chief: Michael T. Markley.

Exelon FitzPatrick, LLC and Exelon Generation Company, LLC, Docket No. 50-333, James A. FitzPatrick Nuclear Power Plant, Oswego County, New York.

Date of amendment request: March 7, 2019. A publicly-available version is in ADAMS under Accession No. ML19066A251.

Description of amendment request: The amendment would revise the James A. FitzPatrick Nuclear Power Plant Technical Specification requirements regarding ventilation system testing in accordance with Technical Specifications Task Force (TSTF) Traveler, TSTF-522, Revision 0, “Revise Ventilation System Surveillance Requirements to Operate for 10 Hours per Month” (ADAMS Accession No. ML100890316). The NRC approved TSTF-522, Revision 0, as part of the consolidated line item improvement process on September 20, 2012 (77 FR 58421).

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces an existing Surveillance Requirement to operate the SGT [Standby Gas Treatment] System equipped with electric heaters for a continuous 10-hour period every 31 days with a requirement to operate the systems for 15 continuous minutes with heaters operating.

The system is not an accident initiator and therefore, these changes do not involve a significant increase in the probability of an accident. The proposed system and filter testing change is consistent with current regulatory guidance for the system and will continue to assure that the system performs the design function which may include mitigating accidents. Thus, the change does not involve a significant increase in the consequences of an accident.

Therefore, it is concluded that this change does not involve a significant increase in the probability or consequences of an accident previously evaluated.

2. Does the proposed amendment create the possibility of a new or different kind of accident from any accident previously evaluated?

Response: No.

The proposed change replaces an existing Surveillance Requirement to operate the SGT System for a continuous 10-hour period every 31 days with a requirement to operate the system for 15 continuous minutes with heaters operating.

The change proposed for the ventilation system does not change any system operations or maintenance activities. Testing requirements will be revised and will continue to demonstrate that the Limiting Conditions for Operation are met, and the system components are capable of performing their intended safety functions. The change does not create new failure modes or mechanisms and no new accident precursors are generated.

Therefore, it is concluded that this change does not create the possibility of a new or different kind of accident from any accident previously evaluated.

3. Does the proposed amendment involve a significant reduction in a margin of safety?

Response: No.

The proposed change replaces an existing Surveillance Requirement to operate the SGT System equipped with electric heaters for a continuous 10-hour period every 31 days with a requirement to operate the systems for 15 continuous minutes with heaters operating, if needed.

The design basis for the ventilation systems' heaters is to heat the incoming air which reduces the relative humidity. The heater testing change proposed will continue to demonstrate that the heaters are capable of heating the air and will perform their design function. The proposed change is consistent with regulatory guidance.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: James G. Danna.

Exelon Generation Company, LLC, Docket No. 50-244, R. E. Ginna Nuclear Power Plant, Wayne County, New York

Date of amendment request: January 15, 2019. A publicly-available version is in ADAMS under Accession No. ML19017A136.

Description of amendment request: The amendment would revise the emergency response organization (ERO) positions identified in the Emergency Plan for the R. E. Ginna Nuclear Power Plant.

Basis for proposed no significant hazards consideration determination: As required by 10 CFR 50.91(a), the licensee has provided its analysis of the issue of no significant hazards consideration, which is presented below:

The NRC staff has reviewed the licensee's analysis and, based on this review, it appears that the three standards of 10 CFR 50.92(c) are satisfied. Therefore, the NRC staff proposes to determine that the amendment request involves no significant hazards consideration.

1. Does the proposed amendment involve a significant increase in the probability or consequences of an accident previously evaluated?

Response: No.

The proposed changes to the Ginna Emergency Plan do not increase the probability or consequences of an accident. The proposed changes do not impact the function of plant Structures, Systems, or Components (SSCs). The proposed changes do not affect accident initiators or accident precursors, nor do the changes alter design assumptions. The proposed changes do not alter or prevent the ability of the onsite ERO to perform their intended functions to mitigate the consequences of an accident or event. The proposed changes remove ERO positions no longer credited or considered necessary in support of Emergency Plan implementation.

Therefore, the proposed changes to the Ginna Emergency Plan do not involve a significant increase in the probability or consequences of an accident previously evaluated.

2. Does the proposed amendment create the possibility of a new or different kind of accident from any accident previously evaluated?

Response: No.

The proposed changes have no impact on the design, function, or operation of any plant SSCs. The proposed changes do not affect plant equipment or accident analyses. The proposed changes do not involve a physical alteration of the plant (i.e., no new or different type of equipment will be installed), a change in the method of plant operation, or new operator actions. The proposed changes do not introduce failure modes that could result in a new accident, and the proposed changes do not alter assumptions made in the safety analysis. The proposed changes remove ERO positions no longer credited or considered necessary in support of Emergency Plan implementation.

Therefore, the proposed changes to the Ginna Emergency Plan do not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public.

The proposed changes do not adversely affect existing plant safety margins or the reliability of the equipment assumed to operate in the safety analyses. There are no changes being made to safety analysis assumptions, safety limits, or limiting safety system settings that would adversely affect plant safety as a result of the proposed changes. Margins of safety are unaffected by the proposed changes to the ERO staffing.

The proposed changes are associated with the Ginna Emergency Plan staffing and do not impact operation of the plant or its response to transients or accidents. The proposed changes do not affect the Technical Specifications. The proposed changes do not involve a change in the method of plant operation, and no accident analyses will be affected by the proposed changes. Safety analysis acceptance criteria are not affected by these proposed changes. The proposed changes to the Emergency Plan will continue to provide the necessary onsite ERO response staff.

Therefore, the proposed changes to the Ginna Emergency Plan do not involve a significant reduction in a margin of safety.

Based on this review, it appears that the three standards of 10 CFR 50.92(c) are satisfied. Therefore the NRC staff proposes to determine that the amendment request involves no significant hazards consideration.

Attorney for licensee: Tamra Domeyer, Associate General Counsel, Exelon Generation Company, LLC, 4300 Winfield Road, Warrenville, IL 60555.

NRC Branch Chief: James G. Danna.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Arizona Public Service Company, et al., Docket Nos. STN 50-528, STN 50-529, and STN 50-530, Palo Verde Nuclear Generating Station, Unit Nos. 1, 2, and 3, Maricopa County, Arizona

Date of application for amendments: May 25, 2018, as supplemented by letters dated October 12, 2018, and January 31, 2019.

Brief description of amendments: The amendments documented approval of elimination of periodic response time testing for a specific pressure transmitter, consistent with the Palo Verde Nuclear Generating Station, Unit Nos. 1, 2, and 3, Technical Specifications.

Date of issuance: April 3, 2019.

Effective date: As of the date of issuance and shall be implemented within 30 days from the date of issuance.

Amendment Nos.: 208 (Unit 1), 208 (Unit 2), and 208 (Unit 3). A publicly-available version is in ADAMS under Accession No. ML19070A218. Documents related to these amendments are listed in the Safety Evaluation enclosed with the amendments.

Renewed Facility Operating License Nos. NPF-41, NPF-51, and NPF-74: The amendments approved allocated response time verification usage for a specific set of replacement components in lieu of directly measured response time testing.

Date of initial notice in Federal Register: July 31, 2018 (83 FR 36973). The supplemental letters dated October 12, 2018, and January 31, 2019, provided additional information that clarified the application, did not expand the scope of the application as originally noticed, and did not change the NRC staff's original proposed no significant hazards consideration determination as published in the Federal Register.

The Commission's related evaluation of the amendments is contained in a Safety Evaluation dated April 3, 2019.

No significant hazards consideration comments received: No.

Duke Energy Progress, LLC, Docket No. 50-400, Shearon Harris Nuclear Power Plant, Unit 1, Wake County, North Carolina

Date of amendment request: October 19, 2017, as supplemented by letters dated January 11, 2018, and September 19, 2018.

Brief description of amendment: The amendment revised the Renewed Facility Operating License to authorize revision of the Shearon Harris Nuclear Power Plant Updated Final Safety Analysis Report to incorporate the process based on the Tornado Missile Risk Evaluator Methodology described in its application, as supplemented. This methodology will only be applied to discovered conditions where tornado missile protection is not currently provided and cannot be used to avoid providing tornado missile protection in the plant modification process.

Date of issuance: March 29, 2019.

Effective date: As of the date of issuance and shall be implemented within 90 days of issuance.

Amendment No.: 169. A publicly-available version is in ADAMS under Accession No. ML18347A385; documents related to this amendment are listed in the Safety Evaluation enclosed with the amendment.

Renewed Facility Operating License No. NPF-63: The amendment revised the Renewed Facility Operating License.

Date of initial notice in Federal Register: February 13, 2018 (83 FR 6221). The supplemental letter dated September 19, 2018, provided additional information that clarified the application, did not expand the scope of the application as originally noticed, and did not change the NRC staff's original proposed no significant hazards consideration determination as published in the Federal Register.

The Commission's related evaluation of the amendment is contained in a Safety Evaluation dated March 29, 2019.

No significant hazards consideration comments received: No.

Exelon Generation Company, LLC, Docket No. STN50-455, Byron Station, Unit No. 2, Ogle County, Illinois

Date of amendment request: March 8, 2018, as supplemented by letters dated July 2, 2018; December 18, 2018; and January 16, 2019.

Brief description of amendment: The amendment revised Technical Specification (TS) 4.2.1 to authorize use of two lead test assemblies containing a limited number of accident tolerant fuel lead test rods during Byron Station, Unit No. 2, refueling cycles 22, 23, and 24. The lead test assemblies are non-limiting under steady state reactor conditions and will comply with fuel limits specified in the core operating limits report and TSs under all operational conditions.

Date of issuance: April 3, 2019.

Effective date: As of the date of issuance and shall be implemented prior to startup with the lead test assemblies.

Amendment No: 207. A publicly-available version is in ADAMS under Accession No. ML19038A017; documents related to this amendment are listed in the related Safety Evaluation enclosed with the amendment.

Renewed Facility Operating License No. NPF-66: The amendment revised the Renewed Facility Operating License and TSs.

Date of initial notice in Federal Register: November 6, 2018 (83 FR 55573). The supplements dated July 2, 2018, and December 18, 2018, provided additional information that clarified the application, did not expand the scope of the application as originally noticed, and did not change the NRC staff's original proposed no significant hazards consideration determination as published in the Federal Register. The supplement dated January 16, 2019, changed the scope of the application as originally noticed by eliminating the license condition and requesting a change to TS 4.2.1. The change in scope and the updated proposed significant hazards consideration was published in the Federal Register on February 1, 2019 (84 FR 1240).

The Commission's related evaluation of the amendment is contained in a Safety Evaluation dated April 3, 2019.

No significant hazards consideration comments received: No.

Florida Power & Light Company, Docket Nos. 50-250 and 50-251, Turkey Point Nuclear Generating Unit Nos. 3 and 4, Miami-Dade County, Florida

Date of amendment request: October 17, 2018; as supplemented by letters dated October 24, 2018; December 3, 2018; and January 31, 2019.

Brief description of amendments: The amendments modified the Renewed Facility Operating Licenses by revising paragraph 3.D, “Transition License Conditions,” to eliminate reliance on NRC approval of the Flowserve Reactor Coolant Pump (RCP) Seal Topical Report as a condition of Turkey Point Nuclear Generating's transition to National Fire Protection Association Standard 805, and instead documented the guidance outlined in NRC-approved Topical Report WCAP-16175-P-A, Revision 0, “Model for Failure of RCP Seals Given Loss of Seal Cooling in CE [Combustion Engineering] NSSS [Nuclear Steam Supply System] Plants.” A non-proprietary version of WCAP-16175-P-A, Revision 0, can be found in ADAMS under Accession No. ML071130383.

Date of issuance: March 27, 2019.

Effective date: As of the date of issuance and shall be implemented within 30 days of issuance.

Amendment Nos.: 286 (Unit No. 3) and 280 (Unit No. 4). A publicly-available version is in ADAMS under Accession No. ML19064A903; documents related to these amendments are listed in the Safety Evaluation enclosed with the amendments.

Renewed Facility Operating License Nos. DPR-31 and DPR-41: The amendments revised the Renewed Facility Operating Licenses.

Date of initial notice in Federal Register: December 26, 2018 (83 FR 66318). The supplemental letters dated December 3, 2018, and January 31, 2019, provided additional information that clarified the application, did not expand the scope of the application as originally noticed, and did not change the NRC staff's original proposed no significant hazards consideration determination as published in the Federal Register.

The Commission's related evaluation of the amendments is contained in a Safety Evaluation dated March 27, 2019.

No significant hazards consideration comments received: No.

NextEra Energy Point Beach, LLC, Docket Nos. 50-266 and 50-301, Point Beach Nuclear Plant, Units 1 and 2, Town of Two Creeks, Manitowoc County, Wisconsin

Date of amendment request: March 31, 2017, as supplemented by letters dated April 12, 2018 (two); May 29, 2018; August 30, 2018; and March 13, 2019.

Brief description of amendments: The amendments revised the Point Beach Nuclear Plant, Units 1 and 2, operating licenses by adding a license condition to resolve construction truss design code nonconformances. The amendments approved a risk-informed approach to resolve legacy design code nonconformances associated with construction trusses in the containment buildings of Point Beach Nuclear Plant, Units 1 and 2, following the guidance in Regulatory Guide 1.174, Revision 2, “An Approach for Using Probabilistic Risk Assessment in Risk-Informed Decisions on Plant-Specific Changes to the Licensing Basis,” issued May 2011.

Date of issuance: March 26, 2019.

Effective date: As of the date of issuance and shall be implemented in accordance with the requirements specified in paragraphs 4.I and 4.H of Renewed Facility Operating License Nos. DPR-24 and DPR-27, respectively.

Amendment Nos.: 263 (Unit 1) and 266 (Unit 2). A publicly-available version is in ADAMS under Accession No. ML18345A110; documents related to these amendments are listed in the Safety Evaluation enclosed with the amendments.

Renewed Facility Operating License Nos. DPR-24 and DPR-27: The amendments revised the Renewed Facility Operating Licenses.

Date of initial notice in Federal Register: June 19, 2017 (82 FR 27890). The supplemental letters dated April 12, 2018 (two); May 29, 2018; August 30, 2018; and March 13, 2019, provided additional information that clarified the application, did not expand the scope of the application as originally noticed, and did not change the NRC staff's original proposed no significant hazards consideration determination as published in the Federal Register.

The Commission's related evaluation of the amendments is contained in a Safety Evaluation dated March 26, 2019.

No significant hazards consideration comments received: No.

NextEra Energy, Point Beach, LLC, Docket Nos. 50-266 and 50-301, Point Beach Nuclear Plant, Units 1 and 2, Town of Two Creeks, Manitowoc County, Wisconsin

Date of amendment request: July 30, 2018.

Brief description of amendments: The amendments revised the Point Beach Nuclear Plant, Units 1 and 2, Technical Specifications (TSs), consistent with NRC-approved Technical Specifications Task Force (TSTF) Traveler TSTF-547, Revision 1, “Clarification of Rod Position Requirements.” The amendments provide time to repair rod movement failures that do not affect rod operability, correct conflicts between the TSs, increase consistency between the subject TSs, and improve the format and presentation.

Date of issuance: March 27, 2019.

Effective date: As of the date of issuance and shall be implemented within 90 days of issuance.

Amendment Nos.: 264 (Unit 1) and 267 (Unit 2). A publicly-available version is in ADAMS under Accession No. ML19052A544; documents related to these amendments are listed in the Safety Evaluation enclosed with the amendments.

Renewed Facility Operating License Nos. DPR-24 and DPR-27: The amendments revised the Renewed Facility Operating Licenses and TSs.

Date of initial notice in Federal Register: November 6, 2018 (83 FR 55575).

The Commission's related evaluation of the amendments is contained in a Safety Evaluation dated March 27, 2019.

No significant hazards consideration comments received: No.

NextEra Energy Seabrook, LLC, Docket No. 50-443, Seabrook Station, Unit No. 1, Rockingham County, New Hampshire

Date of amendment request: March 16, 2018.

Description of amendment request: The amendment revised the frequencies for performing the relative pressure measurement and the assessment of the control room envelope boundary required by Technical Specification 6.7.6.l, “Control Room Envelope Habitability Program.”

Date of issuance: March 29, 2019.

Effective date: As of the date of issuance and shall be implemented within 90 days of issuance.

Amendment No.: 160. A publicly-available version is in ADAMS under Accession No. ML19065A215; documents related to this amendment are listed in the Safety Evaluation enclosed with the amendment.

Renewed Facility Operating License No. NPF-86: The amendment revised the Renewed Facility Operating License and Technical Specifications.

Date of initial notice in Federal Register: July 3, 2018 (83 FR 31186).

The Commission's related evaluation of the amendment is contained in a Safety Evaluation dated March 29, 2019.

No significant hazards consideration comments received: No.

PSEG Nuclear LLC, Docket No. 50-354, Hope Creek Generating Station, Salem County, New Jersey

Date of amendment request: April 13, 2018, as supplemented by two letters dated October 17, 2018.

Brief description of amendment: The amendment revised Hope Creek Generating Station Technical Specification 3.8.3.1, “Distribution—Operating,” to increase the alternating current inverters allowed outage time from 24 hours to 7 days. The change was based on application of the Hope Creek Generating Station probabilistic risk assessment in support of a risk-informed extension and on additional considerations and compensatory actions.

Date of issuance: March 27, 2019.

Effective date: As of the date of issuance and shall be implemented within 60 days of the date of issuance.

Amendment No.: 215. A publicly-available version is in ADAMS under Accession No. ML19065A156; documents related to this amendment are listed in the Safety Evaluation enclosed with the amendment.

Renewed Facility Operating License No. NPF-57: The amendment revised the Renewed Facility Operating License and Technical Specifications.

Date of initial notice in Federal Register: June 19, 2018 (83 FR 28462). Two supplemental letters dated October 17, 2018, provided additional information that clarified the application, did not expand the scope of the application as originally noticed, and did not change the NRC staff's original proposed no significant hazards consideration determination as published in the Federal Register.

The Commission's related evaluation of the amendment is contained in a Safety Evaluation dated March 27, 2019.

No significant hazards consideration comments received: No.

Tennessee Valley Authority, Docket Nos. 50-259, 50-260, and 50-296, Browns Ferry Nuclear Plant, Units 1, 2, and 3, Limestone County, Alabama

Date of amendment request: October 18, 2018, as supplemented by letters dated February 13, 2019, and March 8, 2019.

Brief description of amendments: The amendments revised the Renewed Facility Operating Licenses by changing license conditions associated with the fire protection program controlled by 10 CFR 50.48(c), “National Fire Protection Association Standard NFPA 805.” The amended license conditions incorporate changes made to Table S-2, “Plant Modifications Committed,” in Tennessee Valley Authority letter dated October 18, 2018, as supplemented by letters dated February 13, 2019, and March 8, 2019, which describes modifications necessary to transition into full compliance with 10 CFR 50.48(c).

Date of issuance: April 2, 2019.

Effective date: As of the date of issuance and shall be implemented immediately.

Amendment Nos.: 307 (Unit 1), 330, (Unit 2), and 290 (Unit 3). A publicly-available version is in ADAMS under Accession No. ML19037A137; documents related to these amendments are listed in the Safety Evaluation enclosed with the amendments.

Renewed Facility Operating License Nos. DPR-33, DPR-52, and DPR-68: The amendments revised the Renewed Facility Operating Licenses.

Date of initial notice in Federal Register: December 18, 2018 (83 FR 64897). The supplemental letters dated February 13, 2019, and March 8, 2019, provided additional information that clarified the application, did not expand the scope of the application as originally noticed, and did not change the NRC staff's original proposed no significant hazards consideration determination as published in the Federal Register.

The Commission's related evaluation of the amendments is contained in a Safety Evaluation dated April 2, 2019.

No significant hazards consideration comments received: No.

Wolf Creek Nuclear Operating Corporation, Docket No. 50-482, Wolf Creek Generating Station, Unit 1, Coffey County, Kansas

Date of amendment request: May 9, 2018, as supplemented by letter dated November 19, 2018.

Brief description of amendment: The amendment revised the Wolf Creek Generating Station Radiological Emergency Response Plan to (1) reduce the number of required emergency response organization positions, (2) standardize activation times for the technical support center to 75 minutes, (3) replace the current full-time normal work hours licensed medical practitioner position with on-shift first aid responders, and (4) remove reference to performing dose assessment using containment pressure indication.

Date of issuance: April 1, 2019.

Effective date: As of the date of issuance and shall be implemented within 180 days from the date of issuance.

Amendment No.: 220. A publicly-available version is in ADAMS under Accession No. ML19052A546; documents related to this amendment are listed in the Safety Evaluation enclosed with the amendment.

Renewed Facility Operating License No. NPF-42. The amendment revised the Wolf Creek Generating Station Radiological Emergency Response Plan.

Date of initial notice in Federal Register: July 3, 2018 (83 FR 31187). The supplemental letter dated November 19, 2018, provided additional information that clarified the application, did not expand the scope of the application as originally noticed, and did not change the NRC staff's original proposed no significant hazards consideration determination as published in the Federal Register.

The Commission's related evaluation of the amendment is contained in a Safety Evaluation dated April 1, 2019.

No significant hazards consideration comments received: No.

Dated at Rockville, Maryland, this 16th day of April, 2019
For the Nuclear Regulatory Commission.
Kathryn M. Brock,
Deputy Director, Division of Operating Reactor Licensing, Office of Nuclear Reactor Regulation.

[FR Doc. 2019-07933 Filed 4-22-19; 8:45 am]

BILLING CODE 7590-01-P